DEPARTMENT OF LABOR

Employment and Training Administration

[TA-W-82,440]

Stone Age Interiors, Inc., D/B/A Colorado Springs Marble and Granite, Including On-Site Leased Workers From Express Employment Professionals, Colorado Springs, Colorado; Notice of Affirmative Determination Regarding Application for Reconsideration

By application dated May 16, 2013, a company official requested administrative reconsideration of the negative determination regarding workers' eligibility to apply for Trade Adjustment Assistance (TAA) applicable to workers and former workers of Stone Age Interiors, Inc., d/b/a Colorado Springs Marble and Granite, Colorado Springs, Colorado (subject firm). The negative determination was issued on April 15, 2013 and the Notice of Determination was published in the Federal Register on May 15, 2013 (78 FR 28628-28630). Workers at the subject firm were engaged in activities related to the production of finished stone fabrication. The worker group includes on-site leased workers from Express Employment Professionals.

The initial investigation resulted in a negative determination based on the Department's findings that Criterion (2)(A)(ii) has not been met because imports of articles like or directly competitive with finished stone fabrication produced by Stone Age did not increase during the relevant period.

With respect to Section 222(a)(2)(B) of the Act, the investigation revealed that Stone Age did not shift production of finished stone fabrication, or like or directly competitive articles, to a foreign country, or acquire such production from a foreign country.

With respect to Section 222(b)(2) of the Act, the investigation revealed that Stone Age is neither a Supplier nor Downstream Producer to a firm that employed a group of workers who received a certification of eligibility under Section 222(a) of the Act, 19 U.S.C. 2272(a).

Finally, the group eligibility requirements under Section 222(e) of the Act have not been satisfied because Stone Age has not been publically identified by name by the International Trade Commission as a member of a domestic industry in an investigation resulting in an affirmative finding of serious injury, market disruption, or material injury, or threat thereof.

The request for reconsideration alleges that increased imports of finished product from China have adversely impacted the business and that the information provided by the subject firm was incomplete and/or misunderstood.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of June, 2013.
Del Min Amy Chen,
Certifying Officer, Office of Trade Adjustment Assistance.

[FR Doc. 2013-14854 Filed 6-20-13; 8:45 am]

BILLING CODE 4510-FN-P